DEPARTMENT OF LABOR

Employment and Training Administration

[Funding Opportunity Number: SGA/DFA PY 11-01]

Notice of Funding Opportunity and Solicitation for Grant Applications (SGA) for the Workforce Data Quality Initiative

AGENCY: Employment and Training Administration, Labor.

ACTION: Notice of Solicitation for Grant Applications.

SUMMARY: Through this notice, the Department of Labor's Employment and Training Administration (ETA) announces the availability of approximately $12.1 million from funds made available through the Fiscal Year (FY) 2011 DOL appropriation for Training and Employment Services for grants to State Workforce Agencies (SWA) to develop the Workforce Data Quality Initiative (WDQI). ETA expects to award approximately twelve grants of up to $1 million each for a 36 month period of performance. This performance period includes all necessary implementation and start-up activities. Eligible applicants for this solicitation are those SWAs within the 50 states, the District of Columbia, Puerto Rico and the U.S. Virgin Islands that were not recipients of a round one WDQI grant (as a result of solicitation SGA/DFA PY 09-10). Grants awarded will provide SWAs the opportunity to develop and use State workforce longitudinal administrative data systems. These State longitudinal data systems will, at a minimum, include information on programs that provide training, employment services, and unemployment insurance. These systems must also be linked longitudinally at the individual level to allow for analysis which will lead to enhanced opportunity for program evaluation and lead to better information for customers and stakeholders of the workforce system. In addition, these systems must connect with the U.S. Department of Education's (ED) Statewide Longitudinal Data Systems (SLDS) databases. Where such longitudinal systems do not exist or are incipient, WDQI grant assistance may be used to design and develop workforce data systems that are longitudinal and which are designed to link with relevant education data or longitudinal education data systems. WDQI grant assistance may also be used to improve upon and more effectively use existing State longitudinal systems.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is April 19, 2012.

FOR FURTHER INFORMATION CONTACT: L. Gerald Tate, 200 Constitution Avenue NW., Room N-4716, Washington, DC 20210; Telephone: 202-693-3703. The Grant Officer for this SGA is Latifa Jeter.

Dated: Signed February 14, 2012 in Washington, DC.
Eric D. Luetkenhaus,
Grant Officer, Employment and Training Administration.

[FR Doc. 2012-3982 Filed 2-21-12; 8:45 am]

BILLING CODE 4510-FN-P